DEPARTMENT OF STATE

[Public Notice 7161]

Determination and Certification Under Section 7046(b) of the Department of State, Foreign Operations, and Related Programs Appropriations Act, 2010

Pursuant to the authority vested in the Secretary of State under section 7046(b) of the Department of State, Foreign Operations, and Related Programs Appropriations Act, 2010 (Div. F, Pub. L. 111-117), which incorporates by reference and amends, in part, section 7046(d) of the Department of State, Foreign Operations, and Related Programs Appropriations Act, 2009 (Div. H, Pub. L. 111-8) (FY 2009 SFOAA), I hereby determine and certify that the Government of Colombia is meeting the conditions described in section 7046(d)(2) of the FY 2009 SFOAA, and that I have consulted with Congress as consistent with section 7046(d)(1) of the FY 2009 SFOAA, as amended.

Dated: August 31, 2010.
Hillary Rodham Clinton,
Secretary of State.

[FR Doc. 2010-22758 Filed 9-10-10; 8:45 am]

BILLING CODE 4710-29-P